DEPARTMENT OF ENERGY

Federal Energy Regulatory Commission

[Docket No. ER99-3916-004, et al.]

Xcel Energy Operating Companies, et al.; Electric Rate and Corporate Regulation Filings

June 19, 2001.

Take notice that the following filings have been made with the Commission:

1. Xcel Energy Operating Companies

[Docket No. ER99-3916-004]

Take notice that on June 14, 2001, the Xcel Energy Operating Companies (Xcel Energy) submitted for filing Substitute Original Sheet No. 9A and Original Sheet Nos. 9B and 9C to their Joint Open Access Transmission Tariff (Joint OATT), Original Volume No. 1 and Order 614, pursuant to the Commission letter order dated March 14, 2001. The proposed change deletes references to Volume 2 of the Joint OATT. Xcel Energy will hereafter submit all transmission services agreements in Volume 1 of the Joint OATT.

Xcel Energy requests that the Commission accept the compliance tariff changes effective August 18, 2000 and May 1, 2001, respectively. Xcel Energy requests waiver of the Commission's notice requirements in order for the tariff pages to be accepted for filing on the date requested.

Comment date: July 5, 2001, in accordance with Standard Paragraph E at the end of this notice.

2. Cleco Marketing & Trading LLC

[Docket No. ER01-1971-001]

Take notice that Cleco Marketing & Trading LLC (CMT), on June 14, 2001, tendered for filing an amendment to its proposed amended Rate Schedule FERC No. 1 submitted on May 1, 2001. The proposed changes would allow CMT to make wholesale sales to and purchases from any affiliate that is not a franchised utility. The rate schedule designations have been amended to comply with the Federal Energy Regulatory Commission's (Commission) Order 614.

The request to amend CMT's Rate Schedule FERC No.1 is made pursuant to the Commission's precedent established in Heartland Energy Services, Inc., 68 FERC P 61,223 (1994); Bridgeport Energy L.L.C., 83 FERC P 61,307 (1998); Cabrillo Power I LLC, 86 FERC P 61,180 (1999), whereby, power marketers were permitted to make sales under their market based rates tariff to any affiliate that is not a franchised utility.

Comment date: July 5, 2001, in accordance with Standard Paragraph E at the end of this notice.

3. Avista Corp.

[Docket No. ER01-2295-000]

Take notice that on June 11, 2001, Avista Corporation (AVA) tendered for filing with the FERC executed Service Agreements for Short-Term Firm and Non-Firm and Point-To-Point Transmission Service under AVA's Open Access Transmission Tariff—FERC Electric Tariff, Volume No. 8 with Axia Energy, LP.

AVA requests the Service Agreements be given an effective date of June 4, 2001.

Comment date: July 2, 2001, in accordance with Standard Paragraph E at the end of this notice.

4. Avista Corporation

[Docket No. ER01-2296-000]

Take notice that on June 11, 2001, Avista Corporation (Avista) tendered for filing with the FERC executed Service Agreements for Short-Term Firm and Non-Firm and Point-To-Point Transmission Service under Avista's Open Access Transmission Tariff—FERC Electric Tariff, Volume No. 8 with Avista Energy, Inc. (Service Agreement). The Service Agreement is for an existing customer to replace a previous agreement and is being filed to add section 4.6 to include charges for low voltage equipment not included in Avista's open access tariff.

Given the urgent need for additional generating capacity in the Pacific Northwest, Avista requests waiver of the Commission's notice requirements to allow the Service Agreements to become effective on April 30, 2001.

Comment date: July 2, 2001, in accordance with Standard Paragraph E at the end of this notice.

5. Carolina Power & Light Company

[Docket No. ER01-2301-000]

Take notice that on June 14, 2001, Carolina Power & Light Company (CP&L) filed revisions to its market-based rates tariff (the Revised Tariff). The significant revisions include the addition of provisions concerning the resale of transmission rights and sales of ancillary services at market-based rates. Copies of the filing were served upon CP&L's market-based rates customers, the North Carolina Utilities Commission and the South Carolina Public Service Commission

CP&L requests waiver of the Commission's notice of filing requirements to allow the Revised Tariff to become effective on June 15, 2001, the day after filing.

Comment date: July 5, 2001, in accordance with Standard Paragraph E at the end of this notice.

6. Virginia Electric and Power Company

[Docket No. ER01-2302-000]

Take notice that on June 14, 2001, Virginia Electric and Power Company (the Company) filed a service agreement for Duke Energy Trading and Marketing, L.L.C. (DETM) (Customer) under the Company's short-form market-based rate tariff, FERC Electric Tariff, Original Volume No. 6 (the Tariff). A copy of the filing was served upon the Customer.

The Company requests that the Commission make the service agreement effective on May 15, 2001.

Comment date: July 5, 2001, in accordance with Standard Paragraph E at the end of this notice.

7. American Electric Power Service Corporation

[Docket No. ER01-2308-000]

Take notice that on June 14, 2001, Kentucky Power Company tendered for filing a letter agreement with Foothills Generating, L.L.C.

AEP requests an effective date of August 13, 2001. Copies of Kentucky Power Company's filing have been served upon the Kentucky Public Service Commission.

Comment date: July 5, 2001, in accordance with Standard Paragraph E at the end of this notice.

8. Entergy Services, Inc.

[Docket No. ER01-2309-000]

Take notice that on June 14, 2001, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-To-Point Transmission Service Agreement and a Short-Term Firm Point-To-Point Transmission Service Agreement both between Entergy Services, Inc., as agent for the Entergy Operating Companies, and Energy USA-TPC Corp.

Entergy Services requests that the TSAs be made effective as service agreements on June 6, 2001.

Comment date: July 5, 2001, in accordance with Standard Paragraph E at the end of this notice.

9. Tampa Electric Company

[Docket No. ER01-2310-000]

Take notice that on June 14, 2001, Tampa Electric Company (Tampa Electric) tendered for filing pursuant to Section 205 of the Federal Power Act a transmission service agreement with Tampa Electric Company, in its wholesale merchant function (Customer) under Tampa Electric's Open Access Transmission Tariff. Copies of this filing have been served on Customer and the Florida Public Service Commission.

Tampa Electric proposes an effective date of May 15, 2001, for the tendered service agreement, and therefore requests a waiver of FERC's notice requirement.

Comment date: July 5, 2001, in accordance with Standard Paragraph E at the end of this notice.

10. Nordic Energy, L.L.C.

[Docket No. ER01-2311-000]

Take notice that on June 14, 2001, Nordic Energy, L.L.C. (Nordic Energy) petitioned the Commission to: (1) accept for filing its Rate Schedule FERC No. 1, which will permit it to sell electric energy and capacity to wholesale customers at market-based rates and permit transmission capacity reassignment; (2) waive 60 days' notice and allow that rate schedule to become effective on July 1, 2001, and (3) grant such other waivers and blanket authorizations as have been granted to other power marketers.

Nordic Energy intends to engage in wholesale electric power and energy sales as a marketer, principally by reselling the output of on-site consumer-owned generation facilities, i.e., generation facilities owned by ultimate consumers, located at their business locations, and used primarily for back-up or self-generation. Neither Nordic Energy nor any of its affiliates owns or controls any currently operating or operable generation or transmission facilities, or has a franchised service area for the sale of electricity to captive customers.

Comment date: July 5, 2001, in accordance with Standard Paragraph E at the end of this notice.

11. UtiliCorp United Inc.

[Docket No. ER01-2312-000]

Take notice that on June 14, 2001, UtiliCorp United Inc. (UtiliCorp) tendered for filing Service Agreement No. 91 under UtiliCorp's FERC Electric Tariff, Third Revised Volume No. 25, a short-term firm point-to-point transmission service agreement between UtiliCorp's WestPlains Energy-Colorado division and Portland General Electric.

UtiliCorp requests an effective date for the service agreement of May 22, 2001.

Comment date: July 5, 2001, in accordance with Standard Paragraph E at the end of this notice.

12. Metro Energy, L.L.C.

[Docket No. ER01-2317-000]

Take notice that on June 14, 2001, Metro Energy, L.L.C. (Metro Energy), with its principal place of business at 425 South Main Street, Suite 201, Ann Arbor, Michigan 48107, tendered for filing its FERC Electric Tariff No. 1 which will provide for the sale of electric energy and capacity at rates, terms and conditions negotiated and agreed to by Metro Energy and the purchaser. Metro Energy also requests the Commission to grant certain waivers of and blanket approvals under its regulations.

Metro Energy requests waiver of the Commission's 60-day prior notice and filing requirement in order to permit its FERC Electric Tariff, Original Volume No. 1 to become effective as of August 1, 2001.

Comment date: July 5, 2001, in accordance with Standard Paragraph E at the end of this notice.

13. California Independent System Operator Corporation

[Docket No. ER01-2319-000]

Take notice that the California Independent System Operator Corporation, (ISO) on June 14, 2001, tendered for filing a Participating Generator Agreement between the ISO and Berry Petroleum Company for acceptance by the Commission. The ISO states that this filing has been served on Berry Petroleum Company and the California Public Utilities Commission.

The ISO is requesting waiver of the 60-day notice requirement to allow the Participating Generator Agreement to be made effective June 12, 2001.

Comment date: July 5, 2001, in accordance with Standard Paragraph E at the end of this notice.

14. California Independent System Operator Corporation

[Docket No. ER01-2322-000]

Take notice that the California Independent System Operator Corporation, (ISO) on June 14, 2001, tendered for filing a Meter Service Agreement for ISO Metered Entities between the ISO and Berry Petroleum Company for acceptance by the Commission. The ISO states that this filing has been served on Berry Petroleum Company and the California Public Utilities Commission.

The ISO is requesting waiver of the 60-day notice requirement to allow the Meter Service Agreement for ISO Metered Entities to be made effective June 12, 2001.

Comment date: July 5, 2001, in accordance with Standard Paragraph E at the end of this notice.

15. Pacific Gas and Electric Company

[Docket No. ER01-2325-000]

Take notice that on June 14, 2001, Pacific Gas and Electric Company (PG&E) tendered for filing a Generator Special Facilities Agreement (GSFA) and a Generator Interconnection Agreement (GIA) between PG&E and Madera Power, LLC (Madera) (collectively Parties) providing for Special Facilities and the parallel operation of Madera's generating facility and the PG&E-owned electric system.

This GSFA permits PG&E to recover the ongoing costs associated with owning, operating and maintaining the Special Facilities including the cost of any alterations and additions. As detailed in the GSFA, PG&E proposes to charge Madera a monthly Cost of Ownership Charge equal to the rate for transmission-level, customer-financed facilities in PG&E's currently effective Electric Rule 2, as filed with the California Public Utilities Commission (CPUC). Copies of this filing have been served upon Madera, the California Independent System Operator Corporation, and the CPUC.

PG&E's currently effective rate of 0.31% for transmission-level, customer-financed Special Facilities is contained in the CPUC's Advice Letter 1960-G/1587-E, effective August 5, 1996, a copy of which is included in this filing. PG&E has requested certain waivers.

Comment date: July 5, 2001, in accordance with Standard Paragraph E at the end of this notice.

16. Virginia Electric and Power Company

[Docket No. ER01-2303-000]

Take notice that, on June 14, 2001, Virginia Electric and Power Company (the Company) filed a service agreement for Aquila Energy Marketing Corporation (AEMC) (Customer) under the Company's short-form market-based rate tariff, FERC Electric Tariff, Original Volume No. 6 (the Tariff). A copy of the filing was served upon the Customer.

The Company requests that the Commission make the service agreement effective on May 15, 2001.

Comment date: July 5, 2001, in accordance with Standard Paragraph E at the end of this notice.

17. PPL Electric Utilities Corporation

[Docket No. ER01-2326-000]

Take notice that on June 14, 2001, PPL Electric Utilities Corporation (PPL Electric Utilities) filed with the Commission a Supplemental Output Interconnection Agreement between PPL Electric Utilities and Northampton Generating Company, L.P. PPL Electric Utilities states that it has served a copy of this filing on Northampton Generating Company, L.P.

PPL Electric Utilities requests that the Commission permit the Supplemental Output Interconnection Agreement to become effective on April 30, 2001.

Comment date: July 5, 2001, in accordance with Standard Paragraph E at the end of this notice.

18. Tampa Electric Company

[Docket No. ER01-2321-000]

Take notice that on June 14, 2001, Tampa Electric Company (Tampa Electric) tendered for filing pursuant to section 205 of the Federal Power Act a transmission service agreement with Calpine Construction Finance Company, L.P. (Calpine) under Tampa Electric's Open Access Transmission Tariff. Tampa Electric proposes an effective date of May 15, 2001, for the tendered service agreement, and therefore requests a waiver of FERC's notice requirement. Copies of this filing have been served on Calpine and the Florida Public Service Commission.

Tampa Electric requests an effective date as of May 15, 2001, which is the Agreement's execution date.

Comment date: July 5, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-15951 Filed 6-25-01; 8:45 am]

BILLING CODE 6717-01-P